DEPARTMENT OF HEALTH AND HUMAN SERVICES

Centers for Disease Control and Prevention

[Docket No. CDC-2025-0783]

Meeting of the Advisory Committee on Immunization Practices; Amended Notice of Meeting

AGENCY: Centers for Disease Control and Prevention, Department of Health and Human Services (HHS).

ACTION: Notice.

SUMMARY: In accordance with the Federal Advisory Committee Act, the Centers for Disease Control and Prevention (CDC) announces an amendment to the following meeting of the Advisory Committee on Immunization Practices (ACIP). The meeting is open to the public.

FOR FURTHER INFORMATION CONTACT: ACIP Secretariat, Advisory Committee on Immunization Practices, Centers for Disease Control and Prevention, 1600 Clifton Road NE, Mailstop H21-12, Atlanta, Georgia 30329-4027. Email: ACIP@cdc.gov.

SUPPLEMENTARY INFORMATION: Notice is hereby given of a change in the meeting of the Advisory Committee on Immunization Practices (ACIP); December 4, 2025, from 9:00 a.m. to 5:30 p.m., EST and December 5, 2025, from 8 a.m. to 5 p.m., EST, in the original Federal Register notice.

Notice of the virtual meeting was published in the Federal Register on November 13, 2025, Volume 90, Number 217, pages 50944-50945.

The meeting notice is being amended to update the dates, which should read as follows:

The meeting will be held on December 4, 2025, from 8 a.m. to 5 p.m., EST and December 5, 2025, from 8 a.m. to 5 p.m., EST.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2025-21774 Filed 12-2-25; 8:45 am]

BILLING CODE 4163-18-P